DEPARTMENT OF HOMELAND SECURITY

Coast Guard

[USCG-2013-1078]

National Offshore Safety Advisory Committee; September 2014 Meeting

AGENCY: Coast Guard, DHS.

ACTION: Notice of teleconference meeting.

SUMMARY: The National Offshore Safety Advisory Committee will meet via teleconference to receive a final report from the Subcommittee on Marine Casualty Reporting on the Outer Continental Shelf. This meeting will be open to the public.

DATES: The teleconference will take place on Wednesday, September 24, 2014, from 2 p.m. to 4 p.m. EDT. This meeting may close early if all business is finished. If you wish to make oral comments at the teleconference, notify Mr. Scott E. Hartley before the teleconference, as specified in the FOR FURTHER INFORMATION CONTACT section, or designated Coast Guard staff at the meeting. If you wish to submit written comments or make a presentation, submit your comments or request to make a presentation by September 17, 2014. Also, if you want to come to the teleconference host location in person, you must request building access by September 17, 2014.

ADDRESSES: The Committee will meet via teleconference. To participate by phone, please contact Mr. Scott E. Hartley listed below in the FOR FURTHER INFORMATION CONTACT section to obtain teleconference information. Note the number of teleconference lines is limited and will be available on a first-come, first-served basis. To come to the host location in person and join those participating in this teleconference from U.S. Coast Guard Headquarters, 2703 Martin Luther King Jr. Ave. SE., Washington, DC 20593-7509, please contact Mr. Scott E. Hartley listed in the FOR FURTHER INFORMATION CONTACT section to request directions and building access. You must request building access by September 17, 2014, and present a valid, government-issued photo identification to gain entrance to the Coast Guard Headquarters building.

For information on facilities or services for individuals with disabilities or to request special assistance at the teleconference, contact Mr. Scott E. Hartley listed in the FOR FURTHER INFORMATION CONTACT section, as soon as possible.

If you want to make a presentation, send your request by September 17, 2014, to Mr. Scott E. Hartley listed in the FOR FURTHER INFORMATION CONTACT section. To facilitate public participation we are inviting public comment on the issues to be considered by the Committee as listed in the “Agenda” section below. You may submit a written comment on or before September 17, 2014, or make an oral comment during the public comment portion of the teleconference.

To submit a comment in writing, use one of the following methods:

• Federal eRulemaking Portal: http://www.regulations.gov. Follow the instructions for submitting comments.

• Email: Scott.E.Hartley@uscg.mil. Include the docket number (USCG-2013-1078) on the subject line of the message.

• Fax: (202) 372-8382. Include the docket number (USCG-2013-1078) on the subject line of the fax.

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

• To avoid duplication, please use only one of these methods.

Instructions: All submissions received must include the words “Department of Homeland Security” and the docket number for this notice. All comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2013-1078 in the Search box, press Enter, and then click on the item you wish to view.

FOR FURTHER INFORMATION CONTACT: Mr. Scott E. Hartley, Alternate Designated Federal Official of the National Offshore Safety Advisory Committee, Commandant (CG-OES-2), U.S. Coast Guard, 2703 Martin Luther King Jr. Ave. SE., Stop 7509, Washington, DC 20593-7509; telephone (202) 372-1437, fax (202) 372-8382 or Mr. Dennis Fahr, Alternate Designated Federal Official of the National Offshore Safety Advisory Committee, Commandant (CG-OES-2), U.S. Coast Guard, 2703 Martin Luther King Jr. Avenue SE., Stop 7509, Washington, DC 20593-7509; telephone (202) 372-1427, fax (202) 372-8382. If you have questions on viewing or submitting material to the docket, call Cheryl Collins, Program Manager, Docket Operations, telephone 202-366-9826 or 1-800-647-5527.

SUPPLEMENTARY INFORMATION: Notice of this meeting is given under the Federal Advisory Committee Act, 5 U.S.C. Appendix, Public Law 92-463, 86 Statute 770, as amended. The National Offshore Safety Advisory Committee provides advice and recommendations to the Department of Homeland Security on matters and actions concerning activities directly involved with or in support of the exploration of offshore mineral and energy resources insofar as they relate to matters within U.S. Coast Guard jurisdiction.

Agenda of Meeting

The agenda for the September 24, 2014, teleconference includes:

(1) Receive a final report from the Subcommittee on Marine Casualty Reporting on the Outer Continental Shelf.

(a) There will be a presentation of the report followed by a comment period for National Offshore Safety Advisory Committee members and the public.

(b) After the comment period the Committee will formulate recommendations for the Department's consideration.

(2) National Offshore Safety Advisory Committee member comments.

(3) Public comments.

A copy of the draft final report and the agenda will be available at https://homeport.uscg.mil/nosac.

During the September 24, 2014, teleconference, a public comment period will be held from approximately 3:45 p.m. to 4 p.m. Speakers are requested to limit their comments to three minutes. Please note that this public comment period may start before 3:45 p.m. if all other agenda items have been covered and may end before 4 p.m. if all of those wishing to comment have done so. Please contact Mr. Scott E. Hartley, listed in the FOR FURTHER INFORMATION CONTACT section to register as a speaker.

Minutes

Minutes from the meeting will be available for public review and copying within 90 days following the meeting at https://homeport.uscg.mil/nosac.

Notice of Future 2014 National Offshore Safety Advisory Committee Meetings

To receive automatic email notices of future National Offshore Safety Advisory Committee meetings in 2014, go to the online docket, USCG-2013-1078 (http://www.regulations.gov/#!docketDetail;D=USCG-2013-1078), and select the sign-up-for-email-alerts option. We plan to use the same docket number for all National Offshore Safety Advisory Committee meeting notices in 2014, so when the next meeting notice is published you will receive an email alert from http://www.regulations.gov when the notice appears in this docket.

Dated: August 14, 2014.
Jeffrey G. Lantz,
Director of Commercial Regulations and Standards.

[FR Doc. 2014-19591 Filed 8-18-14; 8:45 am]

BILLING CODE 9110-04-P